DEPARTMENT OF ENERGY

Federal Energy Regulatory Commission

[Docket No. EC04-79-000, et al.]

Rochester Gas and Electric Corporation, et al.; Electric Rate and Corporate Filings

March 25, 2004.

The following filings have been made with the Commission. The filings are listed in ascending order within each docket classification.

1. Rochester Gas and Electric Corporation, R.E. Ginna Nuclear Power Plant, LLC

[Docket No. EC04-79-000]

Take notice that on March 23, 2004, Rochester Gas and Electric Corporation (RG&E) and R.E. Ginna Nuclear Power Plant, LLC (GNPP) (collectively, the Applicants) filed with the Federal Energy Regulatory Commission an application pursuant to section 203 of the Federal Power Act and 18 CFR part 33 for authorization for the sale of jurisdictional facilities owned by RG&E, comprised of limited interconnection and transmission facilities related to an approximately 495 MW nuclear generating plant located in Ontario County, New York, that is commonly known as the Robert E. Ginna Nuclear Power Plant to an indirect subsidiary of Constellation Energy Group, Inc.

Comment Date: April 19, 2004.

2. Patrick C. Lynch, Attorney General of The State of Rhode Island v. Independent System Operator of New England (ISO-NE)

[Docket No. EL04-91-000]

Take notice that on March 22, 2004, Patrick C. Lynch, Attorney General of the State of Rhode Island, (Attorney General), petitioned the Commission, pursuant to Rule 207(a)(2) of the Commission's Rules of Practice and Procedure, 18 CFR 207(a)(2) for an order requiring ISO New England, Inc. to immediately issue a ruling declaring that all customers of the New England regional transmission network will be responsible to pay for planned upgrades of the E-183 transmission line, a pooled transmission facility as defined by the 100th Restated NEPOOL Agreement, located within the Cities of Providence and East Providence, Rhode Island. In the alternative, the Attorney General requests that the Commission itself directly order the requested relief.

Comment Date: April 12, 2004.

3. Midwest Independent Transmission System Operator, Inc.

[Docket No. ER02-488-004]

Take notice that on March 22, 2004, the Midwest Independent Transmission System Operator, Inc. (Midwest ISO) tendered for filing in accordance with section 205 of the Federal Power Act (FPA), 16 U.S.C. 824d, section 385.205 of the (Commission) regulations, 18 CFR 385.205, and in compliance with the Commission's order in Midwest Independent Transmission System Operator, Inc., 104 FERC ¶ 61,245 (2003) (September 10 Order), its Operating Protocols for Existing Generators, FERC Electric Tariff, Original Rate Schedule FERC No. 4. In addition, the Midwest ISO also renews its pending motion in the proceeding to consolidate the instant docket with FERC Docket No. ER04-458-000.

Comment Date: April 12, 2004.

4. Cross-Sound Cable Company, LLC

[Docket No. ER03-600-004]

Take notice that on March 22, 2004, Cross-Sound Cable Company, LLC (CSC LLC) submitted a compliance filing pursuant to the Commission's February 11, 2004 order, in Docket No. ER03-600-000, 106 FERC ¶ 61,116. CSC LLC requests an effective date of February 11, 2004.

CSC LLC states that a copy of this filing has been mailed to each person designated on the official service list compiled by the Secretary of the Commission in Docket No. ER03-600-000.

Comment Date: April 12, 2004.

5. PJM Interconnection, L.L.C.

[Docket No. ER03-1101-003]

Take notice that on March 22, 2004, PJM Interconnection, L.L.C. (PJM) filed the 180-day follow-up report, as well as the first of four six-month reports, concerning PJM's credit policy for virtual bidders, as required by the Commission's September 22, 2003 order in PJM Interconnection, L.L.C., 104 FERC ¶ 61,309 (2003).

PJM states that copies of this filing have been served on all persons listed on the official service list compiled by the Secretary in this proceeding.

Comment Date: April 12, 2004.

6. Pacific Gas and Electric Company

[Docket No. ER04-377-001]

Take notice that on March 22, 2004, Pacific Gas and Electric Company (PG&E) tendered for filing a revised Appendix and Exhibit to the Generator Special Facilities Agreement (GSFA) between PG&E and Sunrise Power Company, LLC (Sunrise II) (collectively, Parties), and submitted the GSFA and the Generator Interconnection Agreement (GIA) for redesignation. PG&E states that the revised Appendix A and Exhibit 1 reclassify certain work performed and that the filing does not modify any rate levels. PG&E also states that the Agreements were originally accepted for filing by the Commission in FERC Docket No. ER00-3294-001 and designated as Service Agreement No. 45 under FERC PG&E Electric Tariff, Sixth Revised Volume No. 5. PG&E has requested certain waivers.

PG&E states that copies of this filing have been served upon the parties of record in FERC Docket Nos. ER03-1362-000 and ER04-377-000, Sunrise II, La Paloma Power Company, LLC, the California Independent System Operator Corporation, and the California Public Utilities Commission.

Comment Date: April 12, 2004.

7. Midwest Independent Transmission System Operator, Inc.

[Docket No. ER04-665-000]

Take notice that on March 22, 2004, Midwest Independent Transmission System Operator, Inc. (Midwest ISO) pursuant to section 205 of the Federal Power Act and section 35.12 of the Commission's regulations, 18 CFR 35.12 (2003), submitted for filing an Interconnection and Operating Agreement among Adrian Public Utilities, the Midwest ISO and Interstate Power and Light Company, a wholly-owned subsidiary of Alliant Energy Corporation.

Midwest ISO states that a copy of this filing was served on all parties.

Comment Date: April 12, 2004.

8. NorthWestern Energy

[Docket No. ER04-666-000]

Take notice that on March 22, 2004, NorthWestern Energy, a division of NorthWestern Corporation, tendered for filing a Notice of Cancellation pursuant to 18 CFR 35.15, to reflect cancellation of its FERC Electric Rate Schedule 34, which is an Electric Service Agreement for Emergency-Type Service with East River Electric Power Cooperative (East River). NorthWestern Energy states that the service originally provided under Rate Schedule 34 is now being provided under a new Electric Service Agreement for Emergency-Type Service entered into between NorthWestern Energy and East River on March 3, 2004.

Comment Date: April 12, 2004.

9. Southern California Edison Company

[Docket No. ER04-667-000]

Take notice, that on March 22, 2004, Southern California Edison Company (SCE) tendered for filing the unexecuted Kirkwall Substation Agreement (Kirkwall Agreement) and a revised Service Agreement for Wholesale Distribution Service (Service Agreement) between SCE and the City of Azusa, California (Azusa). SCE requests the Kirkwall Agreement and the revised Service Agreement become effective on March 23, 2004.

The Kirkwall Agreement and the revised Service Agreement specify the terms and conditions under which SCE will provide wholesale Distribution Service from the California Independent System Operator Controlled Grid at SCE's Rio Hondo Substation to a new SCE-Azusa interconnection at Kirkwall Substation.

SCE states that copies of this filing were served upon the Public Utilities Commission of the State of California, and Azusa.

Comment Date: April 12, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-737 Filed 03-31-04; 8:45 am]

BILLING CODE 6717-01-P